ELECTION ASSISTANCE COMMISSION

Sunshine Act Meetings

AGENCY: U.S. Election Assistance Commission.

ACTION: Sunshine Act notice; notice of public meeting agenda.

SUMMARY: Public meeting: U.S. Election Assistance Commission.

DATES: Wednesday, April 26, 2023, 1:00 p.m.-2:30 p.m. EST.

ADDRESSES: The Election Assistance Commission hearing room at 633 3rd St. NW, Washington, DC 20001. The meeting is open to the public and will be livestreamed on the U.S. Election Assistance Commission YouTube Channel: https://www.youtube.com/channel/UCpN6i0g2rlF4ITWhwvBwwZw.

FOR FURTHER INFORMATION CONTACT: Kristen Muthig, Telephone: (202) 897-9285, Email: kmuthig@eac.gov.

SUPPLEMENTARY INFORMATION:

Purpose: In accordance with the Government in the Sunshine Act (Sunshine Act), Public Law 94-409, as amended (5 U.S.C. 552b), the U.S. Election Assistance Commission (EAC) will hold a public meeting to discuss supporting military and Uniformed and Overseas Citizens Absentee Voting Act (UOCAVA) voters.

Agenda: The U.S. Election Assistance Commission (EAC) will host a public meeting to discuss how federal state and local offices support and communicate with military and overseas voters.

The agenda includes panel discussions with representatives from federal agencies, election officials, and subject matter experts. Panelists will give remarks and respond to questions from the EAC Commissioners.

Also included in this event will be a review of a new EAC resource for election officials as they serve military and overseas voters in their jurisdictions.

The full agenda will be posted in advance on the EAC website: www.eac.gov/events/2023/04/26/us-election-assistance-commission-public-meeting-april-26-2023.

Background: The Help America Vote Act of 2002 (HAVA) charged the EAC to serve as a national clearinghouse and resource for the compilation of information and review of procedures with respect to the administration of federal elections. The EAC's Clearinghouse Division is made up of former election officials and subject matter experts who work with EAC staff to provide materials that address the needs of election officials.

Status: This meeting will be open to the public.

Camden Kelliher,
Associate Counsel, U.S. Election Assistance Commission.

[FR Doc. 2023-07643 Filed 4-7-23; 4:15 pm]

BILLING CODE P